DEPARTMENT OF COMMERCE

Technology Administration

National Medal of Technology

ACTION: Proposed collection; comment request.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before June 5, 2000.

ADDRESSES: Direct all written comments to Linda Engelmeier, Departmental Forms Clearance Officer, Department of Comment, Room 5027, 1401 Constitution Avenue, NW, Washington, DC 20230 or via the Internet (LEngelme@doc.gov).

FOR FURTHER INFORMATION CONTACT: Requests for additional information should be directed to the attention of S.J. Dapkunas, Acting Director, National Medal of Technology Program, Technology Administration, 1401 Constitution Avenue, NW, Room 4226, Washington, DC 20230. In addition, written comments may be sent via fax, 202/501-8153, and e-mail to stanley_dapkunas@ta.doc.gov.

SUPPLEMENTARY INFORMATION:

I. Abstract

The National Medal of Technology is the highest honor bestowed by the President to America's leading innovators. The Medal is given to individuals, teams, or companies for accomplishments in the innovation, development, commercialization, and management of technology, as evidenced by the establishment of new or significantly improved products, processes, or services. The information provided is used by the Nomination Evaluation Committee in determining the merit and eligibility of nominees.

II. Method of Collection

By mail, but the nomination forms and instructions are electronically posted on the National Medal of Technology web site so interested parties can review criteria and informational requirements at their convenience.

III. Data

OMB Number: 0692-0001.

Form Number: None.

Type of Review: Reinstatement of a previously approved collection.

Affected Public: Individuals or households; business or other for-profit; not-for-profit institutions; and, Federal Government.

Estimated Number of Respondents: 102.

Estimated Time Per Response: 25 hours.

Estimated Total Annual Respondent Burden Hours: 2,550.

Estimated Total Annual Respondent Cost Burden: None (no capital expenditures).

IV. Requests for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarize or included in the request for OMB approval of this information collection; they will also become a matter of public record.

Dated: March 29, 2000.
Linda Engelmeier,
Departmental Forms Clearance Officer, Office of the Chief Information Officer.

[FR Doc. 00-8286 Filed 4-4-00; 8:45 am]

BILLING CODE 3510-18-P